DEPARTMENT OF HEALTH AND HUMAN SERVICES

National Institutes of Health

Center for Scientific Review; Amended Notice of Meeting

Notice is hereby given of a change in the meeting of the Clinical Neuroscience and Neurodegeneration Study Section, September 30, 2010, 8 a.m. to October 1, 2010, 5 p.m., Washington Plaza Hotel, 10 Thomas Circle, NW., Washington, DC, 20005 which was published in the Federal Register on August 4, 2010, 75 FR 46950-46951.

The meeting will be one day only September 30, 2010. The meeting time and location remain the same. The meeting is closed to the public.

Dated: August 26, 2010.
Jennifer S. Spaeth,
Director, Office of Federal Advisory Committee Policy.

[FR Doc. 2010-21816 Filed 8-31-10; 8:45 am]

BILLING CODE 4140-01-P